DEPARTMENT OF LABOR

Occupational Safety and Health Administration

29 CFR Parts 1910, 1926

[Docket Nos. S-016 (OSHA-S016-2006-0646), OSHA-S215-2006-0063]

RIN 1218-AA32, 1218-AB67

Electrical Safety-Related Work Practices; Electric Power Generation, Transmission, and Distribution; Electrical Protective Equipment; Corrections

AGENCY: Occupational Safety and Health Administration (OSHA), Labor.

ACTION: Correcting amendments.

SUMMARY: This document corrects the electrical safety-related work practices standard for general industry and the electric power generation, transmission, and distribution standards for general industry and construction to provide additional clarification regarding the applicability of the standards to certain operations, including some tree trimming work that is performed near (but that is not on or directly associated with) electric power generation, transmission, and distribution installations. This document also corrects minor errors in two minimum approach distance tables in the general industry and construction standards for electric power generation, transmission and distribution work.

DATES: These correcting amendments are effective on October 5, 2015.

FOR FURTHER INFORMATION CONTACT: General information and press inquiries: Mr. Frank Meilinger, Office of Communications, Room N3647, OSHA, U.S. Department of Labor, 200 Constitution Avenue NW., Washington, DC 20210; telephone (202) 693-1999; email meilingerfrancis2@dol.gov.

Technical information: Mr. William Perry, Directorate of Standards and Guidance, Room N3718, OSHA, U.S. Department of Labor, 200 Constitution Avenue NW., Washington, DC 20210; telephone (202) 693-1950 or fax (202) 693-1678; email perry.bill@dol.gov.

SUPPLEMENTARY INFORMATION: This document revises certain language in OSHA's standards to reflect the Agency's intent about the scope of two general industry standards. First, this document revises language that mistakenly could be read as suggesting that the general industry electric power generation, transmission, and distribution standard covers certain tree-trimming work that is performed near, but that is not on or directly associated with, electric power generation, transmission, and distribution installations. This was never OSHA's intent; rather, OSHA intended that the general industry electrical safety-related work practices standard cover such work. Similarly, OSHA is correcting language in its general industry electrical safety-related work practices standard to make clear that the standard covers other work performed by qualified persons that is near, but not on or directly associated with, both electric power generation, transmission, and distribution installations and certain other types of installations.

This notice also corrects minor errors in two minimum approach distance tables in the general industry and construction standards for electric power generation, transmission and distribution work.

Background

On August 6, 1990, OSHA adopted a standard on electrical safety-related work practices for general industry (55 FR 31984).¹ That standard is contained in §§ 1910.331 through 1910.335 in subpart S of 29 CFR part 1910. According to § 1910.331(a), that standard contains electrical safety-related work practices for both qualified persons ² (those who have training in avoiding the electrical hazards of working on or near exposed energized parts) and unqualified persons (those with little or no such training) working on, near, or with certain electrical installations (not including electric power generation, transmission, and distribution installations). Paragraph (c) of § 1910.331 excludes from the scope of the electrical safety-related work practices standard work by qualified persons “on or directly associated with” certain installations, including installations for the generation, transmission, and distribution of electric energy (§ 1910.331(c)(1)).³

¹ The Docket number, as listed on the original final rule, was S-016. The corresponding Docket ID on Regulations.gov is OSHA-S016-2006-0646 (http://www.regulations.gov/#!docketBrowser;rpp=50;so=ASC;sb=docId;po=50;D=OSHA-S016-2006-0646).

² Subpart S, in § 1910.399, defines “qualified person” as someone who has received training in and has demonstrated skills and knowledge in the construction and operation of electric equipment and installations and the hazards involved. In addition, §§ 1910.332(b)(3) and 1910.333(c)(2) require qualified persons to have specialized skills and training before OSHA considers them to be qualified.

³ Paragraph (b) of § 1910.331 provides that the electrical safety-related work practice requirements in §§ 1910.331 through 1910.335 apply to work performed by unqualified persons on, near, or with the installations listed in paragraph (c).

When the Agency promulgated the electrical safety-related work practices standard in 1990, OSHA did not define “work directly associated with” generation, transmission, or distribution installations. However, Note 2 to § 1910.331(c)(1) gave two examples of such work: line-clearance tree trimming and replacing utility poles. OSHA defined “line-clearance tree trimming,” at 29 CFR 1910.399 in subpart S, as the pruning, trimming, repairing, maintaining, removing, or clearing of trees or cutting of brush that is within 305 cm (10 feet) of electric supply lines and equipment.

On January 31, 1994, OSHA issued a new standard, § 1910.269, addressing work practices to be used during the operation and maintenance of electric power generation, transmission, and distribution lines and equipment, including, specifically, line-clearance tree-trimming operations (59 FR 4320).⁴ The 1994 final rule: adopted a definition of “line-clearance tree trimming” in § 1910.269(x) that mirrored the definition of that term in § 1910.399, redesignated Note 2 to § 1910.331(c)(1) (which provided examples of the types of work that are excluded from the electrical safety-related work practices standard because they are directly associated with electric power generation, transmission, or distribution installations) as Note 3, and added a sentence to that note stating that work within the scope of the note is covered by § 1910.269.⁵

⁴ Paragraph (a)(1)(i) of § 1910.269 states that the standard covers the operation and maintenance of electric power generation, control, transformation, transmission, and distribution lines and equipment. Paragraph (a)(1)(i)(E) lists line-clearance tree-trimming operations as work to which the standard applies.

⁵ The Docket number, as listed on the original final rule, was S-015. The corresponding Docket ID on Regulations.gov is OSHA-S015-2006-0645 (http://www.regulations.gov/#!docketBrowser;rpp=25;so=ASC;sb=docId;po=0;dct=N%252BFR%252BPR%252BO%252BSR%252BPS;D=OSHA-S015-2006-0645).

On April 11, 2014, OSHA revised § 1910.269, as well as subpart V of part 1926, which contains corresponding requirements for the construction of electric power transmission and distribution lines and equipment (79 FR 20316). The 2014 final rule revised the definition of “line-clearance tree trimming” in § 1910.269(x) to include the pruning, trimming, repairing, maintaining, removing, or clearing of trees, or the cutting of brush, that is within the following distance of electric supply lines and equipment: (1) For voltages to ground of 50 kilovolts or less—3.05 meters (10 feet) and (2) for voltages to ground of more than 50 kilovolts—3.05 meters (10 feet) plus 0.10 meters (4 inches) for every 10 kilovolts over 50 kilovolts. The revision expanded the definition to include work on trees and brush that were farther away from electric power lines and equipment when the voltage was more than 50 kilovolts. The 2014 final rule also revised Note 3 to § 1910.331(c)(1) to reference the definition of “line-clearance tree trimming” in § 1910.269(x) and deleted the corresponding definition from § 1910.399.

Need for Correcting Amendment

After OSHA promulgated the 2014 revisions to § 1910.269, tree care industry representatives raised questions that led the Agency to believe that the industry was unclear about the application of § 1910.269 with respect to certain tree-trimming work. As a result, OSHA examined the relevant regulatory language in the general industry standards on electrical safety-related work practices (subpart S) and on electric power generation, transmission, and distribution work (§ 1910.269). The Agency's review led to two conclusions: (1) Revisions to § 1910.269 are necessary to clarify that certain types of tree trimming meeting the definition of “line-clearance tree trimming” are not covered by that standard; and (2) revisions to § 1910.331 (in subpart S) are necessary to clarify that the electrical safety-related work practices in §§ 1910.331 through 1910.335 apply to tree-trimming work that may meet the definition of “line-clearance tree trimming” when that work is not on or directly associated with electric power generation, transmission, and distribution or other installations listed in § 1910.331(c) and, more generally, to work performed by qualified employees when that work is near, but not on or directly associated with, installations listed in § 1910.331(c).

Tree trimming: As noted earlier in this document, when the Agency adopted the electrical safety-related work practices standard in 1990, OSHA listed line-clearance tree trimming and replacing utility poles as examples of types of work that are directly associated with electric power generation, transmission, and distribution installations and, therefore, excluded from subpart S when performed by a qualified person (as “qualified person” is defined in § 1910.399). However, OSHA was imprecise in its description of these examples. Although clearing trees and brush around power lines and replacing utility poles are usually tasks that are directly associated with a power line, that is not always the case. For example, an employee could be trimming trees away from telephone or cable television lines that happen to be near an electric power line. This type of tree trimming, which meets the definition of line-clearance tree trimming in § 1910.269(x), is work directly associated with communications lines, not electric power lines, and is covered by § 1910.268, not § 1910.269.⁶ Similarly, a telecommunications firm replacing a utility pole supporting communications lines is performing work directly associated with the communications lines, not with any electric power lines that also happen to be supported by the pole but that are not transferred to the new pole by the firm. OSHA intended the examples in Note 3 to § 1910.331(c)(1) to illustrate types of work that generally (but not always) would be directly associated with electric power generation, transmission, and distribution lines. The Agency did not intend for those examples to be dispositive of the question of whether any particular activity is directly associated with those installations.

⁶ Under § 1910.331(c)(2), line-clearance tree trimming to clear space around communications lines is exempt from §§ 1910.331 through 1910.335 when performed by qualified persons.

Furthermore, the current definition of “line-clearance tree trimming” in § 1910.269(x) makes the location of the tree or brush the key determining factor in deciding whether a trimming activity is line-clearance tree trimming. Consequently, any trimming or other maintenance of any tree or brush that is within the specified distances of an electric power line is line-clearance tree trimming, irrespective of the purpose of the activity or the occupation of the worker. Notwithstanding this definition, the only line-clearance tree trimming OSHA intended § 1910.269 to cover is line-clearance tree trimming performed: (1) For the purpose of clearing space around electric power generation, transmission, or distribution lines or equipment and (2) on behalf of an organization that operates, or that controls the operating procedures for, those lines or equipment. For example, a crew trimming trees at a residence or commercial facility for aesthetic purposes would be performing work meeting the current definition of “line-clearance tree trimming” while trimming any tree that is within the specified distance of a power line. Yet, in most cases, OSHA would consider this work to be incidental line-clearance tree trimming ⁷ that is not directly associated with an electric power generation, transmission, or distribution line. When initially promulgating the electrical safety-related work practices standard in 1990, the Agency did not intend such incidental line-clearance tree trimming to be included in the exemption in § 1910.331(c)(1). When OSHA adopted § 1910.269 in 1994, and revised that standard in 2014, the Agency proceeded on the understanding that such incidental line-clearance tree trimming was covered by subpart S; thus, OSHA did not intend to cover that work under § 1910.269, even though it is now apparent that the definition of “line-clearance tree trimming” in § 1910.269(x), which was adopted in 1994, and revised in 2014, did not make this intent clear.⁸

⁷ Throughout this preamble, OSHA refers to any tree trimming activities performed on a tree or brush that is closer to an electric power generation, transmission, or distribution line or equipment than the distances specified in the definition of “line-clearance tree trimming” in existing § 1910.269(x) as “incidental line-clearance tree trimming” when the tree trimming activities are not directly associated with the lines or equipment.

⁸ During the rulemaking that led to the promulgation of the electrical safety-related work practices standard in Subpart S in 1990, the National Arborist Association expressed concern that the exemption in § 1910.331(c)(1) for work performed by qualified employees on or directly associated with electric power generation, transmission, and distribution installations was not specific enough. That organization recommended that line-clearance tree trimming be separated from the “directly associated with” electric power installations test and exempted through a specified exclusion for tree trimming performed by qualified employees near overhead power lines (Docket ID OSHA-S016-2006-0646-0084). OSHA rejected that recommendation and instead adopted the note stating that line-clearance tree trimming is an example of work directly associated with electric power generation, transmission, and distribution installations (55 FR 31997). In discussing the note in the preamble to the 1990 rule, OSHA rejected an assertion from the National Arborist Association that the exemption in § 1910.331(c)(1) would exempt only work performed on behalf of the owner or operator of the overhead lines (55 FR 31997). OSHA recognizes that this discussion in the 1990 preamble may have been misleading with respect to the Agency's intent, which was stated more clearly elsewhere in the same notice when OSHA noted that line-clearance tree trimming contractors (usually hired by electric utilities) would be covered under § 1910.269 and that residential contractors (usually hired by homeowners or businesses other than electric utilities) would be covered by the electrical safety-related work practice requirements in subpart S (55 FR 31997). This correcting amendment is designed to provide clarification that should resolve any confusion resulting from imprecision in the 1990 subpart S preamble.

The Agency's economic analyses for the 1994 and 2014 rulemakings reflect that OSHA did not intend to cover incidental line-clearance tree trimming under § 1910.269. The regulatory impact assessment for the 1994 final rule indicated that § 1910.269 “will cover . . . contract line-clearance tree trimmers” (59 FR 4431, emphasis added), meaning “contractors [that] perform tree trimming for electric utilities” (OSHA-S015-2006-0645-0008 ⁹). And OSHA based the 2014 analysis on the continued assumption that the rule would cover contract line-clearance tree-trimming firms (in other words, contractors that perform tree trimming on behalf of a utility or other organization that operates, or controls the operating procedures for, covered electric power lines and equipment) only. In the 2014 analysis, OSHA relied on 2002 estimates from the National Arborist Association (now known as the Tree Care Industry Association) that 90 percent of large establishments, and 2 percent of small establishments, that perform ornamental shrub and tree services are involved in line-clearance tree trimming covered by § 1910.269 (79 FR 20564). Thus, the 2014 analysis did not account for a large percentage of establishments that perform ornamental shrub and tree care services, even though, in all likelihood, the majority, if not all, of these establishments perform at least some work meeting the definition of line-clearance tree trimming.

⁹ This number is the document ID for “Preparation of an Economic Impact Study for the Proposed OSHA Regulation Covering Electric Power Generation, Transmission, and Distribution,” a report prepared by Eastern Research Group, Inc. that formed the basis for OSHA's economic analysis for the 1994 final rule. This document is available at http://www.regulations.gov.

Thus, OSHA concludes that the language in the existing standards does not accurately convey the Agency's intent with respect to tree-trimming activities that meet the definition of “line-clearance tree trimming,” but that are not directly associated with electric power generation, transmission, or distribution lines or equipment.

Subpart S coverage of work by qualified employees that is near, but not on or directly associated with, electric power generation, transmission, or distribution installations. Paragraph (a) of § 1910.331 describes work by both qualified and unqualified persons that is covered by the electrical safety-related work practices at §§ 1910.331 through 1910.335. Paragraph (b) of § 1910.331 states that the electrical safety-related work practices at §§ 1910.331 through 1910.335 apply to work performed by unqualified persons on, near, or with certain installations (including electric power generation, transmission, and distribution installations) listed in § 1910.331(c)(1) through (c)(4). And the introductory text to § 1910.331(c) states that the electrical safety-related work practices at §§ 1910.331 through 1910.335 do not apply to work performed by qualified persons on or directly associated with the installations (including electric power generation, transmission, and distribution installations) listed in § 1910.331(c)(1) through (c)(4). Section 1910.331 does not state explicitly that the electrical safety-related work practices in subpart S do apply to work performed by qualified persons near, but not on or directly associated with, electric power generation, transmission, and distribution installations, although other parts of the standard make clear that OSHA intended to cover this type of work in subpart S. For example, § 1910.333(c)(3)(ii) contains requirements for qualified persons working in the vicinity of overhead lines. As virtually all overhead lines at the voltages addressed by this provision ¹⁰ are electric power generation, transmission, or distribution lines, it is evident that OSHA intended to cover work by qualified persons performed near, but not on or directly associated with, electric power generation, transmission, or distribution installations.

¹⁰ Paragraph (c)(3)(ii) of § 1910.333 generally requires qualified persons to maintain the minimum approach distances shown in Table S-5 from overhead lines. Table S-5 lists approach distances for various voltages up to 140 kilovolts. The highest voltage on electric utilization systems (which are covered by subpart S as indicated in Notes 1 and 2 to § 1910.331(c)(1)) is generally about 4 kilovolts.

Therefore, OSHA concludes that the scope provisions in § 1910.331 do not accurately explain the applicability of the electrical safety-related work practices at §§ 1910.331 through 1910.335 to qualified persons performing work near, but not on or directly associated with, the installations listed in § 1910.331(c)(1) through (c)(4), including electric power generation, transmission, and distribution installations.

Description of Correcting Amendment

To clarify what work is covered by the general industry standards on electric power generation, transmission, and distribution work and on electrical safety-related work practices, OSHA is taking the following actions:

1. Expressly limiting the scope of § 1910.269 as it relates to line-clearance tree trimming by revising § 1910.269(a)(1)(i)(E) to state explicitly that the standard applies to line-clearance tree trimming only to the extent it is performed for the purpose of clearing space around electric power generation, transmission, or distribution lines or equipment and on behalf of an organization that operates, or that controls the operating procedures for, those lines or equipment.

2. Adding a note to the definition of “line-clearance tree trimming” in § 1910.269(x), with corresponding revisions to Note 2 to the definition of “line-clearance tree trimmer,” to explain that: (1) The scope of § 1910.269 limits the application of the standard to line-clearance tree trimming as noted in § 1910.269(a)(1)(i)(E); and (2) tree trimming that is performed on behalf of a homeowner or commercial entity other than an organization that operates, or that controls the operating procedures for, electric power generation, transmission, or distribution lines or equipment, or that is not for the purpose of clearing space around electric power generation, transmission, or distribution lines or equipment, is not directly associated with an electric power generation, transmission, or distribution installation and is not covered by § 1910.269.

3. Revising Appendix A-3 to § 1910.269 to reflect the clarifications in this correcting amendment.¹¹

¹¹ In addition, OSHA is moving the note referring to requirements for manholes and underground vaults at the bottom of Appendix A-3 to Appendix A-5 (relating to enclosed spaces), which is the appendix to which that note applies.

4. Replacing terms such as “line-clearance tree-trimming operations” and “line-clearance tree-trimming work” wherever they appear in § 1910.269 and subpart V of part 1926 with “line-clearance tree trimming” and revising § 1926.950(a)(3) to correspond to the changes to § 1910.269(a)(1)(i)(E), noted earlier.¹²

¹² Specifically, OSHA is revising relevant language in § 1926.950(a)(3) to reflect that § 1910.269 applies to line-clearance tree trimming only to the extent it is performed for the purpose of clearing space around electric power generation, transmission, or distribution lines or equipment and on behalf of an organization that operates, or that controls the operating procedures for, those lines or equipment.

5. Referencing the scope of § 1910.269 in Note 3 to § 1910.331(c)(1).

6. In § 1910.331(b), adding language clarifying that the electrical safety-related work practices in subpart S cover qualified persons performing work near, but not on or directly associated with, installations listed in § 1910.331(c)(1) through (c)(4).

OSHA is also correcting minor errors in Table R-6 of § 1910.269 and in Table V-5 of subpart V of part 1926. Table R-3 of § 1910.269 and Table V-2 of subpart V, which contain equations for employers to use to establish minimum approach distances from energized parts of electric circuits, set the minimum approach distance for 50 to 300 volts as “avoid contact.” Using the equations in Table R-3 and Table V-2, Table R-6 and Table V-5 provide default minimum approach distances for voltage ranges up to 72.5 kilovolts. The latter two tables erroneously list the first voltage range as 0.50 to 0.300 kilovolts. The correct voltage range is 0.050 to 0.300 kilovolts. In addition, the word “to” is missing between the voltages in the first voltage range in Table V-5. Accordingly, OSHA is correcting Table R-6 and Table V-5 in this document.

Exemption From Notice-and-Comment Procedures

OSHA determined that this correcting amendment is not subject to the requirements and procedures for public notice and comment specified in the Administrative Procedure Act (5 U.S.C. 553(b)) and the Occupational Safety and Health Act of 1970 (29 U.S.C. 655). See 29 CFR 1911.5 (Minor changes in standards). This action does not affect or change any existing rights or obligations, and no interested party is likely to object to the minor amendments being made to 29 CFR 1910.269, 29 CFR 1910.331, or 29 CFR part 1926, subpart V. Therefore, the Agency finds good cause for foregoing public notice and comment.

Authority and Signature

David Michaels, Ph.D., MPH, Assistant Secretary of Labor for Occupational Safety and Health, U.S. Department of Labor, 200 Constitution Ave. NW., Washington, DC 20210, authorized the preparation of this document.

This action is taken pursuant to sections 3704 et seq., Public Law 107-217, 116 STAT. 1062, (40 U.S.C. 3704 et seq.); sections 4, 6, and 8, Public Law 91-596, 84 STAT. 1590 (29 U.S.C. 653, 655, 657), Secretary of Labor's Order No. 1-2012 (77 FR 3912 (Jan. 25, 2012)), and 29 CFR part 1911.

Signed at Washington, DC, on September 28, 2015.
David Michaels,
Assistant Secretary of Labor for Occupational Safety and Health.

The Occupational Safety and Health Administration amends parts 1910 and 1926 of title 29 of the Code of Federal Regulations as follows:

PART 1910—[AMENDED]

Subpart R—Special Industries

1. The authority citation for subpart R of part 1910 continues to read as follows:

Authority: 29 U.S.C. 653, 655, 657; Secretary of Labor's Order No. 12-71 (36 FR 8754), 8-76 (41 FR 25059), 9-83 (48 FR 35736), 1-90 (55 FR 9033), 6-96 (62 FR 111), 5-2007 (72 FR 31159), 4-2010 (75 FR 55355), or 1-2012 (77 FR 3912), as applicable; and 29 CFR part 1911.

* * * * *

2. Amend § 1910.269 by:

a. Removing the terms “line-clearance tree-trimming operations,” “line-clearance tree trimming operations,” “line-clearance tree-trimming work,” and “line-clearance tree trimming work” in paragraphs (a)(1)(i)(E) introductory text, (a)(1)(i)(E)(1) and (2), (a)(1)(ii)(A), (b)(1)(i), (r) subject heading and introductory text, (r)(1)(vi), and in the Note to paragraph (r)(1)(vi), and adding, in their place the term “line-clearance tree trimming”;

b. Revising paragraph (a)(1)(i)(E);

c. In Table R-6, first entry, removing “0.50” and adding in its place “0.050”;

d. Revising paragraph (r) introductory text;

e. In paragraph (x), revising Note 2 to the definition of “line-clearance tree trimmer” and adding a note to the definition of “line-clearance tree trimming”; and

f. Revising appendices A-3 and A-5.

The revisions and addition read as follows:

§ 1910.269 Electric power generation, transmission, and distribution.

(a) * * *

(1) * * *

(i) * * *

(E) Line-clearance tree trimming performed for the purpose of clearing space around electric power generation, transmission, or distribution lines or equipment and on behalf of an organization that operates, or that controls the operating procedures for, those lines or equipment, as follows:

(1) Entire § 1910.269, except paragraph (r)(1) of this section, applies to line-clearance tree trimming covered by the introductory text to paragraph (a)(1)(i)(E) of the section when performed by qualified employees (those who are knowledgeable in the construction and operation of the electric power generation, transmission, or distribution equipment involved, along with the associated hazards).

(2) Paragraphs (a)(2), (a)(3), (b), (c), (g), (k), (p), and (r) of this section apply to line-clearance tree trimming covered by the introductory text to paragraph (a)(1)(i)(E) of this section when performed by line-clearance tree trimmers who are not qualified employees.

* * * * *

(r) Line-clearance tree trimming. This paragraph provides additional requirements for line-clearance tree trimming and for equipment used in this type of work.

* * * * *

(x) * * *

Line-clearance tree trimmer. * * *

Note 2 to the definition of “line-clearance tree trimmer”: A line-clearance tree trimmer is not considered to be a “qualified employee” under this section unless he or she has the training required for a qualified employee under paragraph (a)(2)(ii) of this section. However, under the electrical safety-related work practices standard in Subpart S of this part, a line-clearance tree trimmer is considered to be a “qualified employee.” Tree trimming performed by such “qualified employees” is not subject to the electrical safety-related work practice requirements contained in §§ 1910.331 through 1910.335 when it is directly associated with electric power generation, transmission, or distribution lines or equipment. (See § 1910.331 for requirements on the applicability of the electrical safety-related work practice requirements contained in §§ 1910.331 through 1910.335 to line-clearance tree trimming performed by such “qualified employees,” and see the note following § 1910.332(b)(3) for information regarding the training an employee must have to be considered a qualified employee under §§ 1910.331 through 1910.335.)

Line-clearance tree trimming. * * *

Note to the definition of “line-clearance tree trimming”: This section applies only to line-clearance tree trimming performed for the purpose of clearing space around electric power generation, transmission, or distribution lines or equipment and on behalf of an organization that operates, or that controls the operating procedures for, those lines or equipment. See paragraph (a)(1) of this section. Tree trimming performed on behalf of a homeowner or commercial entity other than an organization that operates, or that controls the operating procedures for, electric power generation, transmission, or distribution lines or equipment is not directly associated with an electric power generation, transmission, or distribution installation and is outside the scope of this section. In addition, tree trimming that is not for the purpose of clearing space around electric power generation, transmission, or distribution lines or equipment is not directly associated with an electric power generation, transmission, or distribution installation and is outside the scope of this section. Such tree trimming may be covered by other applicable standards. See, for example, §§ 1910.268 and 1910.331 through 1910.335.

* * * * *

Subpart S—Electrical

3. The authority citation for subpart S of part 1910 continues to read as follows:

Authority: 29 U.S.C. 653, 655, 657; Secretary of Labor's Order No. 8-76 (41 FR 25059), 1-90 (55 FR 9033), 5-2002 (67 FR 65008), 5-2007 (72 FR 31160), or 1-2012 (77 FR 3912), as applicable; and 29 CFR part 1911.

* * * * *

4. Amend § 1910.331 by revising paragraph (b) and Note 3 to paragraph (c)(1) to read as follows:

§ 1910.331 Scope.

* * * * *

(b) Other covered work. The provisions of §§ 1910.331 through 1910.335 also cover:

(1) Work performed by unqualified persons on, near, or with the installations listed in paragraphs (c)(1) through (4) of this section; and

(2) Work performed by qualified persons near the installations listed in paragraphs (c)(1) through (c)(4) of this section when that work is not on or directly associated with those installations.

(c) * * *

(1) * * *

Note 3 to paragraph (c)(1): Work on or directly associated with generation, transmission, or distribution installations includes:

(1) Work performed directly on such installations, such as repairing overhead or underground distribution lines or repairing a feed-water pump for the boiler in a generating plant.

(2) Work directly associated with such installations, such as line-clearance tree trimming and replacing utility poles, when that work is covered by § 1910.269 (see § 1910.269(a)(1)(i)(D) and (E) and the definition of “line-clearance tree trimming” in § 1910.269(x)).

(3) Work on electric utilization circuits in a generating plant provided that:

(A) Such circuits are commingled with installations of power generation equipment or circuits, and

(B) The generation equipment or circuits present greater electrical hazards than those posed by the utilization equipment or circuits (such as exposure to higher voltages or lack of overcurrent protection).

This work is covered by § 1910.269.

* * * * *

PART 1926—[AMENDED]

Subpart V—Electric power transmission and distribution

5. The authority citation for subpart V of part 1926 continues to read as follows:

Authority: 40 U.S.C. 3701 et seq.; 29 U.S.C. 653, 655, 657; Secretary of Labor's Order No. 1-2012 (77 FR 3912); and 29 CFR part 1911.

6. In § 1926.950, revise paragraph (a)(3) to read as follows:

§ 1926.950 General.

(a) * * *

(3) Applicable part 1910 requirements. (i) Line-clearance tree trimming performed for the purpose of clearing space around electric power generation, transmission, or distribution lines or equipment and on behalf of an organization that operates, or that controls the operating procedures for, those lines or equipment shall comply with § 1910.269 of this chapter.

(ii) Work involving electric power generation installations shall comply with § 1910.269 of this chapter.

* * * * *

§ 1926.960 [Amended]

7. In § 1926.960, in Table V-5, first entry, remove “0.50” and add in its place “0.050 to”.

[FR Doc. 2015-25062 Filed 10-2-15; 8:45 am]

BILLING CODE 4510-26-P